DEPARTMENT OF ENERGY

Federal Energy Regulatory Commission

Combined Notice of Filings # 1

April 16, 2009.

Take notice that the Commission received the following electric corporate filings:

Docket Numbers: EC09-68-000.

Applicants: Del Mar Asset Management, L.P.

Description: Joint Application Under Section 203 of the Federal Power Act for Disposition of Jurisdictional Facilities and Request for Waivers and Expedited Consideration of Del Mar Asset Management, L.P., et al.

Filed Date: 04/14/2009.

Accession Number: 20090414-5142.

Comment Date: 5 p.m. Eastern Time on Tuesday, May 5, 2009.

Take notice that the Commission received the following electric rate filings:

Docket Numbers: ER01-316-032.

Applicants: ISO New England Inc.

Description: New England, Inc. submits its Index of Customer Report for the first quarter of 2009.

Filed Date: 04/15/2009.

Accession Number: 20090416-0010.

Comment Date: 5 p.m. Eastern Time on Wednesday, May 6, 2009.

Docket Numbers: ER03-552-011; ER03-984-009.

Applicants: New York Independent System Operator, Inc.

Description: Status Report of New York Independent System Operator, Inc.

Filed Date: 04/15/2009.

Accession Number: 20090415-5034.

Comment Date: 5 p.m. Eastern Time on Wednesday, May 6, 2009.

Docket Numbers: ER06-615-045.

Applicants: California Independent System Operator Corporation.

Description: California Independent System Operator Corporation submits Attachment A—Interim Measure for Underscheduling in the Day-Ahead Market Compliance Filing et al.

Filed Date: 03/30/2009.

Accession Number: 20090403-0139.

Comment Date: 5 p.m. Eastern Time on Monday, April 20, 2009.

Docket Numbers: ER09-304-001.

Applicants: KCP&L Greater Missouri Operations Company.

Description: KCP&L Greater Missouri Operations Co. submits a notice of succession and Order No. 614 compliance filing.

Filed Date: 04/13/2009.

Accession Number: 20090415-0088.

Comment Date: 5 p.m. Eastern Time on Monday, May 4, 2009.

Docket Numbers: ER09-635-001; ER09-641-000.

Applicants: Southern Operating Companies; Southern Companies; PowerSouth Energy Cooperative.

Description: Southern Companies submits response to FERC's delegated letter order dated 3/25/09.

Filed Date: 04/14/2009.

Accession Number: 20090415-0102.

Comment Date: 5 p.m. Eastern Time on Tuesday, May 5, 2009.

Docket Numbers: ER09-920-000.

Applicants: Pacific Gas and Electric Company.

Description: Pacific Gas and Electric Company submits for acceptance, Notice of Termination of the 9/17/03 Offer of Partial Settlement with San Francisco Bay Area Rapid Transit District.

Filed Date: 03/31/2009.

Accession Number: 20090401-0020.

Comment Date: 5 p.m. Eastern Time on Friday, April 24, 2009.

Docket Numbers: ER09-985-000.

Applicants: PacifiCorp.

Description: PacifiCorp submits Original Sheet No. 1 to First Revised Electric Rate Schedule FERC No. 377.

Filed Date: 04/13/2009.

Accession Number: 20090414-0036.

Comment Date: 5 p.m. Eastern Time on Monday, May 4, 2009.

Docket Numbers: ER09-986-000.

Applicants: E.ON U.S. LLC.

Description: Kentucky Utilities Company et al. submits the 4/24/06 Amendment to the Agreement with Southwest Power Pool etc.

Filed Date: 04/13/2009.

Accession Number: 20090414-0039.

Comment Date: 5 p.m. Eastern Time on Monday, May 4, 2009.

Docket Numbers: ER09-987-000.

Applicants: Idaho Power Company.

Description: Idaho Power Co. submits First Revised Rate Schedule FERC No. 87.

Filed Date: 04/13/2009.

Accession Number: 20090414-0038.

Comment Date: 5 p.m. Eastern Time on Monday, May 4, 2009.

Docket Numbers: ER09-988-000; ER05-1281-009.

Applicants: NextEra Energy Duane Arnold, LLC, FPL Energy Duane Arnold, LLC.

Description: FPL Energy Duane Arnold, LLC requests acceptance of First Revised Sheet 1 et al. of FERC Electric Tariff, Original Volume 1.

Filed Date: 04/14/2009.

Accession Number: 20090415-0108.

Comment Date: 5 p.m. Eastern Time on Tuesday, May 5, 2009.

Docket Numbers: ER09-989-000; ER07-904-005.

Applicants: NextEra Energy Point Beach, LLC; FPL Energy Point Beach, LLC.

Description: FPL Energy Point Beach, LLC submits First Revised Sheet 1 et al. of FERC Electric Tariff, Original Volume 1, Notice of Succession.

Filed Date: 04/14/2009.

Accession Number: 20090415-0110.

Comment Date: 5 p.m. Eastern Time on Tuesday, May 5, 2009.

Docket Numbers: ER09-990-000; ER02-1838-009.

Applicants: NextEra Energy SeaBrook, LLC; FPL Energy Seabrook, LLC.

Description: FPL Energy Seabrook, LLC submits for acceptance First Revised Sheet 1 to FERC Electric Tariff, Original Volume 1.

Filed Date: 04/14/2009.

Accession Number: 20090415-0111.

Comment Date: 5 p.m. Eastern Time on Tuesday, May 5, 2009.

Docket Numbers: ER09-991-000.

Applicants: Midwest Independent Transmission System Operator, Inc.

Description: Midwest Independent Transmission System Operator, Inc. submits proposed revisions to its Open Access Transmission, Energy and Operating Reserve Markets Tariff to revise Schedule 30, etc.

Filed Date: 04/14/2009.

Accession Number: 20090415-0112.

Comment Date: 5 p.m. Eastern Time on Tuesday, May 5, 2009.

Docket Numbers: ER09-992-000.

Applicants: Southwest Power Pool, Inc.

Description: Southwest Power Pool, Inc. submits for acceptance Original Service Agreement 1790 to FERC Electric Tariff, Fifth Revised Volume 1.

Filed Date: 04/14/2009.

Accession Number: 20090415-0113.

Comment Date: 5 p.m. Eastern Time on Tuesday, May 5, 2009.

Docket Numbers: ER09-994-000.

Applicants: Midwest Independent Transmission System Operator, Inc.

Description: Midwest Independent Transmission System Operator, Inc submits Sub. Original Service Agreement 562 with American Municipal Power-Ohio Inc.

Filed Date: 04/15/2009.

Accession Number: 20090415-0215.

Comment Date: 5 p.m. Eastern Time on Wednesday, May 6, 2009.

Docket Numbers: ER09-995-000.

Applicants: American Electric Power Service Corporation.

Description: Indiana Michigan Power Company submits first revised Interconnection and Local Delivery Service Agreement with the City of South Haven, Michigan, designated as Service Agreement 1454.

Filed Date: 04/15/2009.

Accession Number: 20090416-0006.

Comment Date: 5 p.m. Eastern Time on Wednesday, May 6, 2009.

Docket Numbers: ER09-996-000.

Applicants: PJM Interconnection L.L.C.

Description: PJM Interconnection, LLC submits tariff sheets adding Schedule 16 to the PJM etc.

Filed Date: 04/15/2009.

Accession Number: 20090416-0005.

Comment Date: 5 p.m. Eastern Time on Wednesday, May 6, 2009.

Docket Numbers: ER09-998-000.

Applicants: Midwest Independent System Transmission Operator, Inc.

Description: Midwest Independent Transmission System Operator, Inc submits for acceptance Original Service Agreement to FERC Electric Tariff, Fourth Revised Volume 1.

Filed Date: 04/15/2009.

Accession Number: 20090416-0011.

Comment Date: 5 p.m. Eastern Time on Wednesday, May 6, 2009.

Docket Numbers: ER09-999-000.

Applicants: Midwest Independent System Transmission Operator, Inc.

Description: Midwest Independent Transmission System Operator, Inc submits for acceptance, Second Revised Service Agreement 1628 et al. to FERC Electric Tariff, Fourth Revised Volume 1.

Filed Date: 04/15/2009.

Accession Number: 20090416-0007.

Comment Date: 5 p.m. Eastern Time on Wednesday, May 6, 2009.

Docket Numbers: ER09-1000-000.

Applicants: Southern California Edison Company.

Description: Southern California Edison Company submits their Interconnection Facilities Agreements with the City of Moreno Valley, FERC Electric Tariff, First Revised Volume 5 etc.

Filed Date: 04/15/2009.

Accession Number: 20090416-0003.

Comment Date: 5 p.m. Eastern Time on Wednesday, May 6, 2009.

Take notice that the Commission received the following electric securities filings:

Docket Numbers: ES09-25-000.

Applicants: Southwest Power Pool, Inc.

Description: Application of Southwest Power Pool, Inc. under Section 204 of the Federal Power Act For An Order Authorizing the Issuance of Securities.

Filed Date: 04/10/2009.

Accession Number: 20090410-5072.

Comment Date: 5 p.m. Eastern Time on Friday, May 1, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-9317 Filed 4-22-09; 8:45 am]

BILLING CODE 6717-01-P